ENVIRONMENTAL PROTECTION AGENCY

[EPA-HQ-OPP-2008-0761; FRL-8390-2]

Notice of Receipt of Requests for Amendments to Delete Uses in Certain Pesticide Registrations; Technical Correction

AGENCY: Environmental Protection Agency (EPA).

ACTION: Notice.

SUMMARY: On October 29, 2008, EPA issued a Notice of Receipt of Requests for Amendments by Registrants to Delete Uses in Certain Pesticide Registrations. Section 6(f)(1) of FIFRA provides that a registrant of a pesticide product may at any time request that any of its pesticide registrations be amended to delete one or more uses. FIFRA further provides that, before acting on the request, EPA must publish a notice of receipt of any request in the Federal Register. The October 29 Notice inadvertently included a request to delete various uses from EPA Registrations 000279-02712 (Furadan 10G Insecticide/Nematicide), 000279-02876 (Furadan 4F Insecticide/Nematicide), 000279-03023 (Furadan 15G Insecticide/Nematicide), and 000279-03310 (Furadan LFR Insecticide/Nematicide). All of these registrations contain the active ingredient Carbofuran. The Notice contained errors regarding the request to delete uses for these registrations. This correction removes all of these registrations from this notice.

DATES: Because this technical correction removes only these four use deletion requests, the effective date for the remaining use deletions remains unchanged from the October 29 Notice. The remaining deletions are effective April 27, 2009 or November 28, 2008 for registrations for which the registrant requested a waiver of the 180-day comment period.

Users of these products who desire continued use on crops or sites being deleted should contact the applicable registrant on or before April 27, 2009 or November 28, 2008 for registrations for which the registrant requested a waiver of the 180-day comment period.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket identification (ID) number EPA-HQ-OPP-2008-0761. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. What Does this Correction Do?

This Notice corrects an error that was contained in an October 29 (73 FR 64327) notice of receipt of request for amendments by registrants to delete uses in certain pesticide registrations. The October 29 notice inadvertently included a request to delete certain uses from EPA Registrations 000279-02712 (Furadan 10G Insecticide/Nematicide), 000279-02876 (Furadan 4F Insecticide/Nematicide), 000279-03023 (Furadan 15G Insecticide/Nematicide), and 000279-03310 (Furadan LFR Insecticide/Nematicide). Although EPA has received a request from the registrant to voluntarily cancel uses, the October 29 Federal Register notice omitted certain uses and provided an incorrect time frame for submitting comments. Therefore, EPA is correcting the notice of receipt as set forth below. EPA will subsequently publish a revised Federal Register notice announcing the requested carbofuran amendments with the correct uses and correct time frame for providing comments.

FR Doc. E8-25517 published in the Federal Register of October 29, 2008 (73 FR 64327)(FRL-8387-3) is corrected on page 64328, in the table, by removing the entries for EPA Registrations 000279-02712 (Furadan 10G Insecticide/Nematicide), 000279-02876 (Furadan 4F Insecticide/Nematicide), 000279-03023 (Furadan 15G Insecticide/Nematicide), and 000279-03310 (Furadan LFR Insecticide/Nematicide).

List of Subjects

Environmental protection, Pesticides and pests.

Dated: October 31, 2008.
Oscar Morales,
Director, Information Technology and Resources Management Division, Office of Pesticide Programs.

[FR Doc. E8-26484 Filed 11-5-08; 8:45 am]

BILLING CODE 6560-50-S